DEPARTMENT OF STATE

[Public Notice: 10229]

Determination of Use of Emergency Reserve Fund

SUMMARY: Pursuant to section 7058(c)(1) of the Department of State, Foreign Operations, and Related Appropriations Act, 2015 (Div. J, Pub. L. 115-31), notice is hereby given that, on October 30, 2017, Secretary of State Rex Tillerson determined that it is in the national interest to make up to $5.5 million available from the Emergency Reserve Fund to respond to an emerging health threat that poses severe risks to human health in Madagascar and, if the outbreak spreads beyond Madagascar, in any newly affected countries.

FOR FURTHER INFORMATION CONTACT: Allison S. Bybee, U.S. Department of State, 2201 C Street NW., Washington, DC 20520, (202) 647-3058, BybeeAS@state.gov.

SUPPLEMENTARY INFORMATION: Section 7058(c)(1) of the Department of State, Foreign Operations, and Related Programs Appropriations Act, 2017 (Div. J, Pub. L. 115-31) provides that:

Of the funds appropriated by this Act under the heading “Global Health Programs”, $70,000,000 shall be made available for an Emergency Reserve Fund to address emerging health threats, and shall remain available until expended: Provided, That such funds shall be in addition to funds otherwise available for such purposes, and may be transferred to, and merged with, funds appropriated by this Act under the heading “International Disaster Assistance” for the purposes of this paragraph: Provided further, That such funds may only be made available if the Secretary of State determines and reports to the Committees on Appropriations that it is in the national interest to respond to an emerging health threat that poses severe threats to human health.

Exercising this authority allows funds made available in the Emergency Reserve Fund to be used to respond to the ongoing outbreak of plague in Madagascar, and in newly affected countries, if the outbreak spreads beyond Madagascar.

Jonathan A. Margolis,
Senior Bureau Official, Bureau of Oceans and International Environmental and Scientific Affairs.

[FR Doc. 2017-26601 Filed 12-8-17; 8:45 am]

BILLING CODE 4710-09-P